DEPARTMENT OF DEFENSE

Department of the Navy

[Docket ID: USN-2023-HQ-0018]

Proposed Collection; Comment Request

AGENCY: Department of the Navy, Department of Defense (DoD).

ACTION: 60-Day information collection notice.

SUMMARY: In compliance with the Paperwork Reduction Act of 1995, the Department of the Navy Office of Force Resiliency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 19, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Navy Survey Program Office, 701 S Courthouse Road, Arlington, VA 22204, ATTN: Dr. Richard Linton, or call 703-604-6058.

SUPPLEMENTARY INFORMATION:

Title; Associated Form; and OMB Number: Navy LivingWorks Program Surveys; OMB Control Number: 0703-LWRK.

Needs and Uses: Information collection is necessary to evaluate the LivingWorks suicide prevention training program, supporting the mission of the Department of the Navy (DON) Office of Force Resiliency (OFR) to provide oversight of Navy and Marine Corps programs. OFR is utilizing three surveys to conduct the training program evaluation. Two surveys will evaluate the knowledge and opinions of trainees before and after training. The final survey will be conducted annually and target trained personnel once they are out in the fleet. The survey findings will be utilized internally to inform future trainings and policy, close identified gaps in knowledge, and more effectively reach command personnel trained in suicide prevention and responsible for promoting a comprehensive approach to improving command climate. The surveys will also help determine the efficacy of the LivingWorks program and if it is the best use of DON resources based on the outcomes and return on investment.

Affected Public: Public is not affected by this collection; it is internal to the Navy.

Annual Burden Hours: 750.

Number of Respondents: 1,500.

Responses per Respondent: 3 in the first year, 1 in subsequent years.

Annual Responses: 4,500.

Average Burden per Response: 10 minutes.

Frequency: Three times in the first year, annually thereafter.

Dated: October 16, 2023.
Aaron T. Siegel,
Alternate OSD Federal Register Liaison Officer, Department of Defense.

[FR Doc. 2023-23132 Filed 10-19-23; 8:45 am]

BILLING CODE 6001-FR-P